DEPARTMENT OF COMMERCE

International Trade Administration

[A-201-838]

Seamless Refined Copper Pipe and Tube from Mexico: Final Results of Antidumping Duty Administrative Review; 2010-2011

AGENCY: Import Administration, International Trade Administration, Department of Commerce.

SUMMARY: On December 10, 2012, the Department of Commerce (the Department) published in the Federal Register the Preliminary Results of the 2010-2011 administrative review of the antidumping duty order on seamless refined copper tube and pipe from Mexico.¹ This review covers two producers/exporters of the subject merchandise, GD Affiliates S. de R.L. de C.V. and its affiliate Hong Kong GD Trading Co., Ltd. (collectively, Golden Dragon) and Nacional de Cobre, S.A. de C.V. (Nacobre).² We gave interested parties an opportunity to comment on the Preliminary Results and, based upon our analysis of the comments, we continue to find that subject merchandise has not been sold at less than normal value.

¹ See Seamless Refined Copper Pipe and Tube From Mexico: Preliminary Results of Antidumping Duty Administrative Review; 2010-2011, 77 FR 73422 (December 10, 2012) (Preliminary Results) and accompanying Decision Memorandum.

² See Initiation of Antidumping and Countervailing Duty Administrative Reviews and Requests for Revocation in Part, 76 FR 82268 (December 30, 2011); see also Seamless Refined Copper Pipe and Tube From Mexico: Notice of Partial Rescission of Antidumping Duty Administrative Review, 77 FR 10476 (February 22, 2012).

DATES: Effective Date: June 12, 2013.

FOR FURTHER INFORMATION CONTACT: Elizabeth Eastwood or Dennis McClure, AD/CVD Operations, Office 2, Import Administration, International Trade Administration, U.S. Department of Commerce, 14th Street and Constitution Avenue NW., Washington, DC 20230; telephone: (202) 482-3874 or (202) 482-5973, respectively.

SUPPLEMENTARY INFORMATION:

Background

On December 10, 2012, the Department published in the Federal Register the Preliminary Results of the 2010-2011 administrative review of the antidumping duty order on seamless copper pipe and tube from Mexico. We invited parties to comment on the Preliminary Results. We received case briefs from Nacobre and the petitioners ³ on January 9, 2013. We received rebuttal briefs from Golden Dragon, Nacobre, and the petitioners on January 18, 2013. On March 28, 2013, the Department exercised its discretion to extend the deadline for the final results of this administrative review until June 10, 2013.⁴

³ The petitioners are Cerro Flow Products, LLC, Wieland Copper Products, LLC, Mueller Copper Tube Products, Inc. and Mueller Copper Tube Company, Inc.

⁴ See the March 28, 2013, Memorandum to Christian Marsh, Deputy Assistant Secretary for Antidumping and Countervailing Duty Operations, through James Maeder, Director, Office 2, Office of AD/CVD Operations, from Dennis McClure, Analyst, entitled “Seamless Refined Copper Pipe and Tube from Mexico: Extension of Deadline for Final Results of Antidumping Duty Administrative Review.”

Scope of the Order

The merchandise subject to the order ⁵ is seamless refined copper pipe and tube. The product is currently classified under the Harmonized Tariff Schedule of the United States (HTSUS) subheadings 7407.10.1500, 7419.99.5050, 8415.90.8065, and 8415.90.8085. Although the HTSUS numbers are provided for convenience and customs purposes, the written product description, available in Amended Final and Order, remains dispositive.

⁵ See Seamless Refined Copper Pipe and Tube From Mexico and the People's Republic of China: Antidumping Duty Orders and Amended Final Determination of Sales at Less Than Fair Value From Mexico, 75 FR 71070 (November 22, 2010) (Amended Final and Order).

Analysis of Comments Received

All issues raised in the case and rebuttal briefs by parties in this administrative review are listed in the Appendix to this notice and addressed in the Issues and Decision Memorandum, which is adopted by this notice. Parties can find a complete discussion of all issues raised in this review and the corresponding recommendations in this public memorandum, which is on file electronically via Import Administration's Antidumping and Countervailing Duty Centralized Electronic Service System (“IA ACCESS”). IA ACCESS is available to registered users at http://iaaccess.trade.gov, and is available to all parties in the Central Records Unit, Room 7046, of the main Department of Commerce building.

In addition, a complete version of the Issues and Decision Memorandum can be accessed directly on the Web at http://ia.ita.doc.gov/frn/. The paper copy and electronic version of the Issues and Decision Memorandum are identical in content.

Changes Since the Preliminary Results

We revised our preliminary margin calculations for Golden Dragon and Nacobre to use the home market sales data they reported in their post-preliminary submissions to the Department. We made no other changes to the calculation of Golden Dragon's and Nacobre's weighted-average dumping margins in these final results.

Period of Review

The period of review is May 1, 2011, through October 31, 2011, for Golden Dragon and November 22, 2010, through October 31, 2011, for Nacobre.

Final Results of the Review

As a result of our review, we determine that sales of the subject merchandise have not been made at prices below normal value for the period May 1, 2011, and October 31, 2011, for Golden Dragon and November 22, 2010, through October 31, 2011, for Nacobre.

Disclosure

We will disclose the calculations performed within five days of the date of publication of this notice to parties in this proceeding in accordance with 19 CFR 351.224(b).

Assessment Rate

Pursuant to section 751(a)(2)(C) of the Tariff Act of 1930, as amended (the Act), and 19 CFR 351.212(b)(1), the Department has determined, and U.S. Customs and Border Protection (CBP) shall assess, antidumping duties on all appropriate entries of subject merchandise and deposits of estimated duties, where applicable, in accordance with the final results of this review. The Department intends to issue appropriate assessment instructions directly to CBP 15 days after publication of the final results of this administrative review.

Pursuant to the Final Modification for Reviews,⁶ because the respondents' weighted-average dumping margins are zero, we will instruct CBP to liquidate the appropriate entries without regard to antidumping duties.⁷

⁶ See Antidumping Proceedings: Calculation of the Weighted-Average Dumping Margin and Assessment Rate in Certain Antidumping Duty Proceedings; Final Modification, 77 FR 8101 (February 14, 2012) (Final Modification for Reviews).

⁷ Id. at 8102.

The Department clarified its “automatic assessment” regulation on May 6, 2003.⁸ This clarification will apply to entries of subject merchandise during the POR produced by Golden Dragon and Nacobre for which these companies did not know that the merchandise was destined for the United States. In such instances, we will instruct CBP to liquidate unreviewed entries at the all-others rate if there is no rate for the intermediate company(ies) involved in the transaction.

⁸ For a full discussion of this clarification, see Antidumping and Countervailing Duty Proceedings: Assessment of Antidumping Duties, 68 FR 23954 (May 6, 2003).

Cash Deposit Requirements

The following deposit requirements will be effective upon publication of the notice of these final results for all shipments of seamless refined copper pipe and tube from Mexico entered, or withdrawn from warehouse, for consumption on or after the publication date as provided by section 751(a)(2) of the Act: (1) The cash deposit rates for Golden Dragon and Nacobre will be equal to the weighted-average dumping margins established in the final results of this administrative review (i.e., zero percent); (2) for merchandise exported by manufacturers or exporters not covered in this review but covered in a completed prior segment of the proceeding, the cash deposit rate will continue to be the company-specific rate published for the most recently completed segment; (3) if the exporter is not a firm covered in this review, a prior review, or the original investigation but the manufacturer is, the cash deposit rate will be the rate established for the most recently completed segment for the manufacturer of the merchandise; (4) the cash deposit rate for all other manufacturers or exporters will continue to be 26.03 percent, the all-others rate established in the Amended Final and Order. These cash deposit requirements, when imposed, shall remain in effect until further notice.

Notification to Importers

This notice also serves as a final reminder to importers of their responsibility under 19 CFR 351.402(f)(2) to file a certificate regarding the reimbursement of antidumping duties prior to liquidation of the relevant entries during this POR. Failure to comply with this requirement could result in the Department's presumption that reimbursement of antidumping duties has occurred and the subsequent assessment of doubled antidumping duties.

Administrative Protective Order

In accordance with 19 CFR 351.305(a)(3), this notice also serves as a reminder to parties subject to administrative protective order (APO) of their responsibility concerning the return or destruction of proprietary information disclosed under the APO, which continues to govern business proprietary information in this segment of the proceeding. Timely written notification of the return/destruction of APO materials or conversion to judicial protective order is hereby requested. Failure to comply with the regulations and terms of an APO is a violation subject to sanction.

We are issuing and publishing this notice in accordance with sections 751(a)(1) and 777(i) of the Act.

Dated: June 5, 2013.
Paul Piquado,
Assistant Secretary for Import Administration.

Appendix—Issues and Decision Memorandum

Comment 1: Targeted Dumping Analysis

Comment 2: Date of Sale for Nacobre's “Fixed Price” Sales

Comment 3: Nacobre's Indirect Selling Expenses

Comment 4: Nacobre's General and Administrative Expenses

Comment 5: Adjustment to U.S. Price for Golden Dragon

[FR Doc. 2013-13983 Filed 6-11-13; 8:45 am]

BILLING CODE 3510-DS-P